DEPARTMENT OF HEALTH AND HUMAN SERVICES

Substance Abuse and Mental Health Services Administration

Grants and Cooperative Agreements; Notice of Availability

Funding Opportunity Title: State Adolescent Substance Abuse Treatment Coordination (Short Title: Adolescent Treatment Coordination)

Announcement Type: Initial Announcement.

Funding Opportunity Number: TI 05-006.

Catalog of Federal Domestic Assistance (CFDA) Number: 93.243.

Due Date for Applications: January 12, 2005.

[Note: Letters from State Single Point of Contact (SPOC) in response to E.O. 12372 are due March 12, 2005.]

Summary: The Substance Abuse and Mental Health Services Administration (SAMHSA), Center for Substance Abuse Treatment (CSAT), announces the availability of FY 2005 funds for State Adolescent Substance Abuse Treatment Coordination. A synopsis of this Notice of Funding Availability (NOFA), as well as many other Federal Government funding opportunities, are also available at the Internet site: http://www.grants.gov.

For complete instructions, potential applicants must obtain a copy of SAMHSA's standard Infrastructure Grants Program Announcement (INF-05 PA), and the PHS 5161-1 (Rev. 7/00) application form before preparing and submitting an application. The INF-05 PA describes the general program design and provides instructions for applying for all SAMHSA Infrastructure Grants, including the State Adolescent Substance Abuse Treatment Coordination program. SAMHSA's Infrastructure Grants provide funds to develop or enhance service system infrastructure in order to support effective substance abuse services. Additional instructions and specific requirements for this funding opportunity are described below.

I. Funding Opportunity Description

Authority: Section 509 of the Public Health Service Act, as amended and subject to the availability of funds.

The State Adolescent Substance Abuse Treatment Coordination grant program is one of SAMHSA's Infrastructure Grant programs. The purpose of State Adolescent Substance Abuse Treatment Coordination grants is to build capacity in States to provide effective, accessible, and affordable substance abuse treatment for youth and their families. Grants will provide funding to support a staff position (a State official whose sole responsibility is ensuring the effectiveness of adolescent substance abuse treatment State-wide) and a State process to assess, facilitate, and coordinate ongoing, self-sustaining cross-system planning for effective adolescent substance abuse treatment.

Grantees are required to hire and/or dedicate a full-time employee at the State level vested with the authority to convene and coordinate all of the State agencies that allocate public health resources that may provide funding and other support for adolescents and their families needing early intervention and treatment services for substance use disorders. The State adolescent substance abuse treatment coordinator shall also form linkages with other service systems that provide mental health, education, health, child welfare, and juvenile justice services for youth and their families and identify opportunities to coordinate funding and treatment resources across these systems to the fullest extent possible. It is incumbent upon the grantee to create a position vested with the authority necessary to accomplish these tasks, and to hire/designate an individual who has the necessary skills and experience appropriate for the position, including an understanding of the correlation of co-occurring mental health and substance use disorders.

Background

Although there has been increased awareness around the need for accessible, effective substance abuse treatment for youth, there are problems within State structures that make providing funding and services for youth extremely difficult. Responsibility for adolescent treatment is located in a number of State agencies, and is frequently not in the office that oversees substance abuse treatment services. Only one State has best practices guidelines for adolescent substance abuse treatment. Only five States' substance abuse counselor licensure requirements include any knowledge of youth addiction, childhood development, or families. None has a specific licensure for clinicians working with youth addiction. Of the six States that have separate certification requirements for adolescent substance abuse treatment, four do not address required staffing levels; none addresses the issue of parental notification; only one addresses the use of discipline/restraint; only three require background checks for staff; and only three require any specialized training for staff. A major contributor to the aforementioned weaknesses in the adolescent substance abuse treatment system is that most States do not have a single locus of responsibility for ensuring an accessible, effective substance abuse treatment system for youth and their families.

Allowable Activities

Grants funds may be used to carry out all of the allowable activities listed in Section I-2.1 of the INF-05 PA except that grant funds may not be used for data infrastructure/MIS development. In addition, these are Category I—Small Infrastructure Grants; implementation pilots are not an allowable activity under this mechanism.

Required Activities

Grantees must use funds to carry out the following required activities:

• Develop a full-time position within a unit of State government to oversee and coordinate the adolescent substance abuse treatment system Statewide.

• Link and coordinate with other service systems to promote comprehensive, integrated services for youth with substance abuse and/or co-occurring problems. Such service systems include mental health, health, juvenile justice, education, child welfare, and Medicaid.

• Coordinate the budget formulation and benefit plans (e.g., Medicaid services for adolescent treatment) of all State agencies that have responsibility for funds that may be used to support adolescent substance abuse treatment services, including screening, assessment, early intervention, treatment, family involvement in treatment, case management, and continuing care/aftercare.

• Identify barriers (fiscal, regulatory, and policy) that impede the adoption and provision of accessible evidence-based treatment across the full continuum of care recommended by the American Society of Addiction Medicine (ASAM)*. Devise and implement strategies, in concert with all other State-agencies that may fund and/or regulate these services, to improve the access to treatment, increase capacity and quality, and expand the available continuum in communities and throughout the State implementing treatment interventions with a scientific evidence base for the population to be served.

• Import tools, coordinate training, and support providers in the adoption of screening and assessment protocols that cross-walk to DSM-IV/ICD 10 criteria for substance abuse/dependence, mental health diagnoses, and ASAM Patient Placement Criteria, Version 2—Revised*.

*Mee-lee D, Shulman GD, Fishman M, Gastfriend DR, and Griffith JH, eds. (2001). ASAM Patient Placement Criteria for the Treatment of Substance-Related Disorders, 2nd Ed-Revised (ASAM PPC-2R). Chevy Chase, MD: American Society of Addiction Medicine, Inc.

• Develop/improve State standards for licensure/certification/accreditation of programs that provide substance abuse treatment services for adolescents and their families.

• Develop/improve State standards for licensure/certification/credentialing of adolescent substance abuse treatment counselors.

• Identify and provide linkages across the universe of discretionary federal and foundation-funded adolescent substance abuse treatment grant programs for the purpose of supporting and disseminating learning across the State-wide treatment system and to provide assistance to ensure sustainability and adoption of best/evidence based practices identified in these programs.

• Identify, disseminate, and support training and technical assistance resources that expand the capacity and quality of adolescent substance abuse treatment throughout the State provider system, including cross-training for adolescent mental health and substance abuse treatment providers.

• Participate in and actively share learning across the community created by the States funded in this grant program to leverage training, support, dissemination, intervention adoption, and evaluation/research to improve the treatment system for youth and their families both intra-State and inter-State.

• Promote coordination and collaboration with family support organizations to strengthen services for youth, with or at risk of substance abuse and/or co-occurring problems.

• Facilitate the development of a State-wide provider association for adolescent substance abuse treatment across programs and for counselors engaged in providing these services, regardless of the State or local system within which they work.

• Keep abreast of the research findings related to adolescent substance abuse treatment and disseminate this information State-wide in a form that is easily digested by clinical staff, providing insight on the application of the research to improve clinical practice at the program level.

II. Award Information

1. Estimated Funding Available/Number of Awards: It is expected that up to $7.1 million will be available to fund up to 22 awards in FY 2005. The maximum allowable award is $400,000 in total costs (direct and indirect) per year for up to 3 years. Proposed budgets cannot exceed the allowable amount in any year of the proposed project. The actual amount available for the awards may vary, depending on unanticipated program requirements and the number and quality of the applications received. Annual continuations will depend on the availability of funds, grantee progress in meeting program goals and objectives, and timely submission of required data and reports.

This program is being announced prior to the annual appropriation for FY 2005 for SAMHSA's programs, with funding estimates based on the President's budget request for FY 2005. Applications are invited based on the assumption that sufficient funds will be appropriated for FY 2005 to permit funding of a reasonable number of applications hereby solicited. All applicants are reminded, however, that we cannot guarantee that sufficient funds will be appropriated to permit SAMHSA to fund any applications.

2. Funding Instrument: Grant.

III. Eligibility Information

1. Eligible Applicants: Funding is limited to States, the District of Columbia, Territories and federally recognized tribal governments. Since this program is designed to facilitate State-level coordination of adolescent substance abuse treatment services, only States, the District of Columbia, Territories and federally recognized tribal governments are eligible to apply. These eligibility criteria supersede the criteria specified in Section III-1 of the INF-05 PA.

2. Cost Sharing or Matching is not required.

3. Other: Applicants must also meet certain application formatting and submission requirements or the application will be screened out and will not be reviewed. These requirements are described in Section IV-2 below, as well as in Section IV of the INF-05 PA.

IV. Application and Submission Information

1. Address to Request Application Package: Complete application kits may be obtained from the National Clearinghouse for Alcohol and Drug Information (NCADI) at 1-800-729-6686. When requesting an application kit for this program, the applicant must specify the funding opportunity title “Adolescent Treatment Coordination” and the funding opportunity number (TI 05-006). All information necessary to apply, including where to submit applications and application deadline instructions, is included in the application kit. The PHS 5161-1 application form is also available electronically via SAMHSA's World Wide Web Home Page: http://www.samhsa.gov (click on ‘Grants’). The INF-05 PA is available electronically at http://www.samhsa.gov/grants/standard/Infrastructure/index.aspx.

When submitting an application, be sure to type “TI 05-006/Adolescent Treatment Coordination” in Item Number 10 on the face page of the application form. Also, SAMHSA applicants are required to provide a DUNS Number on the face page of the application. To obtain a DUNS Number, access the Dun and Bradstreet Web site at http://www.dunandbradstreet.com or call 1-866-705-5711.

2. Content and Form of Application Submission: Information, including required documents, required application components, and application formatting requirements, is available in the INF-05 PA in Section IV-2.

Checklist for Application Formatting Requirements

SAMHSA's goal is to review all applications submitted for grant funding. However, this goal must be balanced against SAMHSA's obligation to ensure equitable treatment of applications. For this reason, SAMHSA has established certain formatting requirements for its applications. If you do not adhere to these requirements, your application will be screened out and returned to you without review.

☐ Use the PHS 5161-1 application.

☐ Applications must be received by the application deadline. Applications received after this date must have a proof of mailing date from the carrier dated at least 1 week prior to the due date. Private metered postmarks are not acceptable as proof of timely mailing. Applications not received by the application deadline or not postmarked at least 1 week prior to the application deadline will not be reviewed.

☐ Information provided must be sufficient for review.

☐ Text must be legible. (For Project Narratives submitted electronically in Microsoft Word, see separate requirements below under “Guidance for Electronic Submission of Applications.”)

• Type size in the Project Narrative cannot exceed an average of 15 characters per inch, as measured on the physical page. (Type size in charts, tables, graphs, and footnotes will not be considered in determining compliance.)

• Text in the Project Narrative cannot exceed 6 lines per vertical inch.

☐ Paper must be white paper and 8.5 inches by 11.0 inches in size.

☐ To ensure equity among applications, the amount of space allowed for the Project Narrative cannot be exceeded. (For Project Narratives submitted electronically in Microsoft Word, see separate requirements below under “Guidance for Electronic Submission of Applications.”)

• Applications would meet this requirement by using all margins (left, right, top, bottom) of at least one inch each, and adhering to the page limit for the Project Narrative stated in the INF-05 PA.

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

To facilitate review of your application, follow these additional guidelines. Failure to adhere to the following guidelines will not, in itself, result in your application being screened out and returned without review. However, the information provided in your application must be sufficient for review. Following these guidelines will help ensure your application is complete, and will help reviewers to consider your application.

☐ The 10 application components required for SAMHSA applications should be included. These are:

• Face page (Standard Form 424, which is in PHS 5161-1).

• Abstract.

• Table of contents.

• Budget form (Standard Form 424A, which is in PHS 5161-1).

• Project narrative and supporting documentation.

• Appendices.

• Assurances (Standard Form 424B, which is in PHS 5161-1).

• Certifications (a form in PHS 5161-1).

• Disclosure of lobbying activities (Standard Form LLL, which is in PHS 5161-1).

• Checklist (a form in PHS 5161-1).

☐ Applications should comply with the following requirements:

• Provisions relating to confidentiality, participant protection and the protection of human subjects, as indicated in the INF-05 PA.

• Budgetary limitations as indicated in Sections I, II, and IV-5 of the INF-05 PA.

• Documentation of nonprofit status as required in the PHS 5161-1.

☐ Pages should be typed single-spaced in black ink, with one column per page. Pages should not have printing on both sides.

☐ Please number pages consecutively from beginning to end so that information can be located easily during review of the application. The cover page should be page 1, the abstract page should be page 2, and the table of contents page should be page 3. Appendices should be labeled and separated from the Project Narrative and budget section, and the pages should be numbered to continue the sequence.

☐ The page limit for Appendices stated in the INF-05 PA should not be exceeded.

☐ Send the original application and two copies to the mailing address in the funding announcement. Please do not use staples, paper clips, and fasteners. Nothing should be attached, stapled, folded, or pasted. Do not use heavy or lightweight paper, or any material that cannot be copied using automatic copying machines. Odd-sized and oversized attachments such as posters will not be copied or sent to reviewers. Do not include videotapes, audiotapes, or CD-ROMs.

3. Submission Dates and Times: Applications must be received by January 12, 2005. You will be notified by postal mail that your application has been received. Additional submission information is available in the INF-05 PA in Section IV-3.

Guidance for Electronic Submission of Applications

SAMHSA is now offering the opportunity for you to submit your application to us either in electronic or paper format. Electronic submission is voluntary. No review points will be added or deducted, regardless of whether you use the electronic or paper format.

To submit an application electronically, you must use the http://www.Grants.gov apply site. You will be able to download a copy of the application package from http://www.Grants.gov, complete it off-line, and then upload and submit the application via the Grants.gov site. E-mail submissions will not be accepted.

You must search the Grants.gov site for the downloadable application package, by the Catalogue of Federal Domestic Assistance (CFDA) number. You can find the CFDA number on the first page of the funding announcement.

You must follow the instructions in the User Guide available at: http://www.Grants.gov apply site, on the Customer Support tab. In addition to the User Guide, you may wish to use the following sources for help:

• By e-mail: support@Grants.gov.

• By phone: 1-800-518-4726 (1-800-518-GRANTS). The Customer Support Center is open from 7 a.m. to 9 p.m. Eastern Time, Monday through Friday.

If this is the first time you have submitted an application through Grants.gov, you must complete four separate registration processes before you can submit your application. Allow at least two weeks (10 business days) for these registration processes, prior to submitting your application. The processes are: DUNS Number registration, Central Contractor Registry (CCR) registration, Credential Provider registration, and Grants.gov registration.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

The Project Narrative must be a separate document in the electronic submission. Formatting requirements for SAMHSA grant applications are described above, and in Section IV-2.3 and Appendix A of the standard grant announcement. These requirements also apply to applications submitted electronically, with the following exceptions only for Project Narratives submitted electronically in Microsoft Word. These requirements help to ensure the accurate transmission and equitable treatment of applications.

• Text Legibility: Use a font of Times New Roman 12, line spacing of single space, and all margins (left, right, top, bottom) of one inch each. Adhering to these standards will help to ensure the accurate transmission of your document. If the type size in the Project Narrative of an electronic submission exceeds 15 characters per inch, or the text exceeds 6 lines per vertical inch, SAMHSA will reformat the document to Times New Roman 12, with line spacing of single space. Please note that this may alter the formatting of your document, especially for charts, tables, graphs, and footnotes.

• Amount of Space Allowed for Project Narrative: The Project Narrative for an electronic submission may not exceed 12,875 words. Any part of the Project Narrative in excess of the word limit will not be submitted to review. To determine the number of words in your Project Narrative document in Microsoft Word, select file/properties/statistics.

Applicants are strongly encouraged to submit their applications to Grants.gov early enough to resolve any unanticipated difficulties prior to the deadline. You may also submit a back-up paper submission of your application. Any such paper submission must be received in accordance with the requirements for timely submission detailed in Section IV-3 of the grant announcement. The paper submission must be clearly marked: “Back-up for electronic submission.” The paper submission must conform with all requirements for non-electronic submissions. If both electronic and back-up paper submissions are received by the deadline, the electronic version will be considered the official submission.

After you electronically submit your application, you will receive an automatic acknowledgement from Grants.gov that contains a Grants.gov tracking number. It is important that you retain this number.

The Grants.gov Web site does not accept electronic signatures at this time. Therefore, you must submit a signed paper original of the face page (SF 424), the assurances (SF 424B), and the certifications, and hard copy of any other required documentation that cannot be submitted electronically. You must reference the Grants.gov tracking number for your application, on these documents with original signatures, and send the documents to the following address. The documents must be received at the following address within 5 business days of your electronic submission. Delays in receipt of these documents may impact the score your application receives or the ability of your application to be funded.

For United States Postal Service: Crystal Saunders, Director of Grant Review, Office of Program Services, Substance Abuse and Mental Health Services Administration, Room 3-1044, 1 Choke Cherry Road, Rockville, MD 20857, ATTN: Electronic Applications.

For Other Delivery Service (DHL, Falcon Carrier, Federal Express, United Parcel Service): Crystal Saunders, Director of Grant Review, Office of Program Services, Substance Abuse and Mental Health Services Administration, Room 3-1044, 1 Choke Cherry Road, Rockville, MD 20850, ATTN: Electronic Applications.

If you require a phone number for delivery, you may use (240) 276-1199.

4. Intergovernmental Review: Applicants for this funding opportunity must comply with Executive Order 12372 (E.O. 12372). E.O. 12372, as implemented through Department of Health and Human Services (DHHS) regulation at 45 CFR Part 100, sets up a system for State and local review of applications for Federal financial assistance. Instructions for complying with E.O. 12372 are provided in the INF-05 PA in Section IV-4. A current listing of State Single Points of Contact (SPOCs) is included in the application kit and is available at http://www.whitehouse.gov/omb/grants/spoc.html.

5. Funding Restrictions: Information concerning funding restrictions is available in the INF-05 PA in Section IV-5.

V. Application Review Information

1. Evaluation Criteria: Applications will be reviewed against the Evaluation Criteria and requirements for the Project Narrative (Sections A-D) specified in Section V-1 in the INF-05 PA. The following information describes exceptions/limitations/special requirements to the Project Narrative (Sections A-D) in the INF-05 PA that Adolescent Treatment Coordination applicants must address. Two bullets in the Evaluation Criteria in INF-05 PA are modified/clarified as follows:

1.1 In Section B: Proposed Approach

The second bullet is modified to read: “Describe the proposed project. In the description of the project, address the Required Activities listed in Section I, Funding Opportunity Description of the Adolescent Treatment Coordination NOFA (TI 05-006). Provide evidence that the Required Activities (and any other activities you propose) meet your State's infrastructure needs and show how your proposed infrastructure development strategy will meet the goals and objectives of the project (i.e., meet both goals and objectives proposed by the State and those for the Required Activities).”

1.2 In Section D: Evaluation and Data

The first bullet is modified to read: “Describe the process and outcome evaluation for your project. Include specific performance measures and target outcomes related to the goals and objectives identified for the project in Section B of your Project Narrative. These measures and outcomes also must address the Required Activities listed in Section I, Funding Opportunity Description of the Adolescent Treatment Coordination NOFA (TI 05-006).”

Performance Measurement: All SAMHSA grantees are required to collect and report certain data so that SAMHSA can meet its obligations under the Government Performance and Results Act (GPRA) and grantees can meet their requirements to provide semi-annual progress reports to SAMHSA as outlined below. All applicants must document their ability to collect and report data using the Knowledge Application Customer Satisfaction GPRA tool. This tool can be found at http://www.csat-gpra.samhsa.gov (click on ‘Data Collection Tools/Instruments’), along with instructions for completing it.

GPRA data must be collected at the end of each event and thirty days post event. GPRA data must be entered into the GPRA web system within 7 business days of the forms being completed. In addition, 80% of the participants must be followed up on. GPRA data are to be collected and then entered into CSAT's GPRA Data Entry and Reporting System (http://www.csat-gpra.samhsa.gov). Training and technical assistance on data collecting, as well as data entry, will be provided by CSAT.

In addition to GPRA, grantees of the Adolescent Treatment Coordination program will be required to report semiannually on their progress in meeting the Required Activities in Section I, Funding Opportunity Description of this NOFA. These reports will assess each grantee's progress as compared to both the performance measures and target outcomes established by the grantee for the project and a common set of performance measures, to be established, that will be aligned with the Required Activities and program goals in Section I, Funding Opportunity Description of this NOFA.

In Section D of their project narratives, applicants must describe their current ability to collect and report data on their progress in meeting the Required Activities. Applicants may also propose performance measures to be considered by SAMHSA for inclusion in the common set of measures. Prior to award, applicants will have the opportunity to attend a policy academy during which participants will work to build consensus around this common set of performance measures. Grantees (including those who do not attend the policy academy) will be required to report in narrative format on the broad themes around their progress in their semi-annual reports. Once SAMHSA has obtained necessary approval from the Office of Management and Budget (OMB), further data requirements will be mandated based on the common set of performance measures developed from the policy academy. At any time, grantees may choose to begin collecting more specific data related to the common measures to assist in building local support for continued sustainability for their activities once the period of federal funding ends. SAMHSA will work with grantees to assist them in building performance measurement systems that will provide needed local policy information.

2. Review and Selection Process: Information about the review and selection process is available in the INF-05 PA in Section V-2.

VI. Award Administration Information

Award administration information, including award notices, administrative and national policy requirements, and reporting requirements are available in the INF-05 PA in Section VI. SAMHSA's standard terms and conditions are available at http://www.samhsa.gov/grants/generalinfo/useful_info.aspx.

VII. Agency Contact for Additional Information

For questions concerning program issues contact: Randolph D. Muck, SAMHSA/CSAT/DSI, 1 Choke Cherry Road, Room 5-1083, Rockville, MD 20857; phone 240-276-1576; randy.muck@samhsa.hhs.gov. For questions on grants management issues contact: Kimberly Pendleton, SAMHSA/Division of Grants Management, 1 Choke Cherry Road, Room 7-1097, Rockville, MD 20857; 240-276-1421; E-mail: kimberly.pendleton@samhsa.hhs.gov.

Dated: November 5, 2004.
Daryl Kade,
Director, Office of Policy, Planning and Budget, Substance Abuse and Mental Health Services Administration.

[FR Doc. 04-25187 Filed 11-10-04; 8:45 am]

BILLING CODE 4162-20-P